DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and removed from the list of Specially Designated Nationals and Blocked Persons.

DATES: See SUPPLEMENTARY INFORMATION section.

FOR FURTHER INFORMATION CONTACT: OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's Web site (http://www.treasury.gov/ofac).

Notice of OFAC Actions

On October 6, 2017, OFAC determined that the property and interests in property of the following persons are unblocked and removed from the SDN List under the relevant sanctions authority listed below.

Individuals

1. GALINDO MARTINEZ, Fernando Alberto, c/o MELRUX RICA S PIZZA, Bogota, Colombia; Calle 24C No. 75-59, Bogota, Colombia; Calle 119A No. 57-40 Torre 6 Ap. 1018, Bogota, Colombia; Carrera 45 No. 24A-05, Bogota, Colombia; Carrera 75 No. 24C-22, Bogota, Colombia; DOB 09 Apr 1971; Cedula No. 79574058 (Colombia) (individual) [SDNTK].

2. LOPEZ MEJIA, Claudia Estela, c/o DOLPHIN DIVE SCHOOL S.A., Cartagena, Colombia; c/o INVERSIONES CIFUENTES Y CIA. S. EN C., Medellin, Colombia; c/o LE CLAUDE, S.A. DE C.V., Mexico City, Distrito Federal, Mexico; c/o OPERADORA NUEVA GRANADA, S.A. DE C.V., Mexico City, Distrito Federal, Mexico; Camino del Remanso, No. 80 A, Planta Baja, Colonia Lomas Country Club, Huixquilucan, Estado de Mexico C.P. 52779, Mexico; Camino del Remanso No. 80 Interior 2, Colonia Lomas Country Club, Huixquilucan, Estado de Mexico C.P. 52779, Mexico; Tamarindos 105, Colonia Bosques de las Lomas, Naucalpan de Juarez, Estado de Mexico, Mexico; DOB 16 Dec 1972; POB Belen de Umbria, Risaralda, Colombia; Cedula No. 42104723 (Colombia); Passport AK572650 (Colombia) (individual) [SDNTK].

3. LUNA CORDOBA, Rosa Edelmira, c/o ADMINISTRADORA GANADERA EL 45 LTDA., Medellin, Colombia; c/o CASA DEL GANADERO S.A., Medellin, Colombia; c/o ELECTROMUEBLES DEL BAJO CAUCA, Medellin, Colombia; c/o GANADERIA LUNA HERMANOS LTDA., Medellin, Colombia; c/o INVERSIONES EL MOMENTO S.A., Medellin, Colombia; c/o INVERSIONES LICOM LTDA., Medellin, Colombia; c/o SOCIEDAD MINERA GRIFOS S.A., El Bagre, Antioquia, Colombia; Calle 10E No. 25-41, Medellin, Colombia; Carrera 42 No. 34-15, Medellin, Colombia; 801 Brickell Key Blvd., unit 1907, Miami, FL 33131, United States; 13315 SW 128 Passage, Miami, FL 33186, United States; DOB 18 Sep 1960; POB Puerto Asis, Putumayo, Colombia; Cedula No. 41101742 (Colombia); Passport AK031225 (Colombia) (individual) [SDNT].

Entities

1. BALBOA BANK & TRUST, CORP. (a.k.a. BALBOA BANK AND TRUST, CORP.), Edificio Balboa Bank & Trust, Calle 50 y Calle Beatriz Maria Cabal, Panama, Panama; SWIFT/BIC BTACPAPA; RUC # 4199990-1-427208 (Panama) [SDNTK].

2. BALBOA SECURITIES, CORP., Edificio Balboa Bank & Trust, Calle 50 y Calle Beatriz Maria Cabal, Panama, Panama; RUC # 965431-1-528815 (Panama) [SDNTK].

3. STRATEGIC INVESTORS GROUP INC. (a.k.a. “SI GROUP”), Edificio Balboa Bank & Trust, Calle 50 y Calle Beatriz Maria Cabal, Panama, Panama; RUC # 1649734-1-675348 (Panama) [SDNTK].

4. PERSHORE INVESTMENTS S.A., Edificio Balboa Bank & Trust, Calle 50 y Calle Beatriz Maria Cabal, Panama, Panama; RUC # 1420780-1-631797 (Panama) [SDNTK].

5. STRATEGIC OIL CORP., Edificio Balboa Bank & Trust, Calle 50 y Calle Beatriz Maria Cabal, Panama, Panama; RUC # 2432399-1-809429 (Panama) [SDNTK].

Dated: October 6, 2017.
Mark Samara,
Acting Associate Director, Office of Global Targeting, Office of Foreign Assets Control.

[FR Doc. 2017-22180 Filed 10-12-17; 8:45 am]

BILLING CODE 4810-AL-P